FEDERAL COMMUNICATIONS COMMISSION

[Report No. AUC-38-D (Auction No. 38); DA 01-138]

Auction of Licenses for 700 Mhz Guard Bands; Status of FCC Form 175 Applications To Participate in the Auction

AGENCY: Federal Communications Commission.

ACTION: Notice.

SUMMARY: This document announces the status of applications received by the Commission to participate in the 700 MHz Guard Bands Auction (Auction No. 38). This document identifies three applications that are accepted for filing and instructs those applicants on upfront payment information, bidding software and other pertinent information in reference to the auction. This document also identifies the 2 applications that have been found to be incomplete.

DATES: Auction No. 38 is scheduled to begin on Tuesday, February 13, 2001.

FOR FURTHER INFORMATION CONTACT: Howard Davenport, Auctions Legal Branch (regarding legal questions) or Craig Bomberger, Analyst, Auctions Operations (regarding bidding and auction structure) at (202) 418-0660; Linda Sanderson, Auctions Operations (regarding bidding and general filing status) at (717) 338-2888.

SUPPLEMENTARY INFORMATION: This is a summary of a Public Notice released January 19, 2001 (Auction No. 38 Public Notice). The complete text of the Auction No. 38 Public Notice, including attachments, is available for inspection and copying during normal business hours in the FCC Reference Center (Room CY-A257), 445 12th Street, SW, Washington, DC. It may also be purchased form the Commission's copy contractor, International Transcription Services, Inc. (ITS, Inc.), 445 12th Street, SW, Room CY-B400, Washington, DC 20554, (202) 314-3070. The Auction No. 38 Public Notice is also available on the Internet at the Commission's web site: http://www.fcc.gov/wtb/documents.html.

List of Attachments available at the FCC:

Attachment A—List of Accepted Applicants

Attachment B—List of Incomplete Applicants

1. The Federal Communications Commission (“FCC”) has received 5 FCC Form 175 applications to participate in Auction No. 38 scheduled to begin on Tuesday, February 13, 2001, for 8 licenses in the 700 MHz Guard Bands spectrum. The applications have been reviewed for completeness and compliance with the Commission's rules, and have been classified into the following categories:

Accepted for Filing—3 Applications

Incomplete—2 Applications

Accepted: Applications accepted for filing are listed alphabetically in Attachment A. These applicants will become qualified bidders upon receipt of the required upfront payment due by 6:00 p.m. ET on Friday, January 26, 2001. With respect to the FCC Form 175 applications, these applicants need take no further action except as may be necessary to maintain the accuracy of their applications. Also, applicants are advised that Attachment A includes FCC account numbers that were automatically created by the FCC software system for each applicant, and which are applicable for bidding only.

Incomplete: Applications found to be incomplete are listed alphabetically in Attachment B. Applicants whose FCC Form 175 applications have been deemed incomplete will receive overnight correspondence indicating what information is required to make the applications acceptable for filing. These applicants may become qualified bidders only if they: (i) make the required upfront payments by 6:00 p.m. ET on Friday, January 26, 2001; and (ii) resubmit their applications by 6:00 p.m. ET on Friday, January 26, 2001, to correct the minor deficiencies indicated. Applicants must also maintain the accuracy of their FCC Form 175 applications as required by the Commission's rules. In addition, applicants are advised that Attachment B includes FCC account numbers that were automatically created by the FCC software system for each applicant. These account numbers are applicable for bidding purposes only, should the applicant become eligible to participate in Auction No. 38.

2. The filing window for resubmitting FCC Form 175 applications is now open. Corrected applications must be filed no later than 6:00 p.m. ET on Friday, January 26, 2001. This will be the only opportunity to cure FCC Form 175 defects; late resubmissions will not be accepted. In addition, if an application remains incomplete or otherwise deficient after the resubmission deadline has passed, the application will be rejected.

Upfront Payment Deadline

3. Upfront payments and accompanying FCC Remittance Advice (FCC Form 159) for Auction No. 38 are due at Mellon Bank, Pittsburgh, Pennsylvania, no later than 6:00 p.m. ET on Friday, January 26, 2001. Payments must be made by wire transfer and applicants must include their Taxpayer Identification Numbers (TIN). No other payment method is acceptable for this auction. Applicants are reminded to use their TIN and not their FCC Account Numbers on the FCC Remittance Advice (FCC Form 159).

4. Applicants that have filed applications deemed to be incomplete, as noted in this public notice, must submit timely and sufficient upfront payments before the Commission will review their resubmitted applications. If such an application remains incomplete following its resubmission, the application will be dismissed. If the applicant has provided its Taxpayer Identification Number (TIN) and wire transfer instructions, the upfront payment will be refunded automatically.

5. We remind applicants that to avoid untimely upfront payments they should discuss arrangements (including bank closing schedules) with their banker several days before making the wire transfer, and allow sufficient time for the transfer to be initiated and completed before the deadline. Detailed information regarding upfront payments can be found in the Auction No. 38 Procedures Public Notice, 65 FR 83024 (December 29, 2000) under section III.D.

Other Important Information

6. Qualified Bidders: Approximately one week after the upfront payment deadline, following Commission review of resubmitted FCC Form 175 applications, and correlation of payments and applications, a public notice listing all applicants qualified to bid in the auction will be released. The same public notice will also include instructions on how to access the auction tracking tool software, a bidding schedule for the Mock Auction, and the bidding schedule for the first day of the auction.

7. Prohibition of Collusion: Bidders are reminded that § 1.2105(c) of the Commission's rules prohibits applicants for the same geographic license area from communicating with each other during the auction about bids, bidding strategies, or settlements unless they have identified each other as parties with whom they have entered into agreements under § 1.2105(a)(2)(viii). For Auction No. 38, this prohibition became effective at the filing deadline of short-form applications on Friday, January 12, 2001, and will end on the post-auction down payment deadline. The post-auction down payment deadline will be announced in a future public notice. If parties had agreed in principle on all material terms, those parties must have been identified on the short-form application under § 1.2105(c), even if the agreement had not been reduced to writing. If parties had not agreed in principle by the filing deadline, an applicant should not have included the names of those parties on its application, and must not have continued negotiations with other applicants for licenses in the same geographic area. For further details regarding the prohibition against collusion refer to the Auction No. 38 Procedures Public Notice under section I.B.

8. Winning bidders will be required to disclose in their long-form applications the specific terms, conditions, and parties involved in all bidding consortia, joint ventures, partnerships, and other arrangements entered into relating to the competitive bidding process. Bidders found to have violated the anti-collusion rule may be subject to sanctions. In addition, applicants are reminded that they are subject to the antitrust laws, which are designed to prevent anti-competitive behavior in the marketplace. If a bidder is found to have violated the antitrust laws in connection with its participation in the competitive bidding process, it may be subject to forfeiture of its upfront payment, down payment, or full bid amount and may be prohibited from participating in future auctions.

9. Auction Discount Voucher: On June 8, 2000, the Commission awarded Qualcomm, Inc. a transferable Auction Discount Voucher in the amount of $125,273,878.00. This Auction Discount Voucher may be used by Qualcomm or its transferee, in whole or in part, to adjust a winning bid in any spectrum auction prior to June 8, 2003, subject to terms and conditions set forth in the Commission's Order.

10. Ex Parte Rule: Applicants should also be aware that the Commission has generally exempted auction proceedings from the strict requirements of the ex parte rule found in § 1.1208 of the Commission's rules.

11. Mock Auction: All applicants found to be qualified bidders are eligible to participate in a mock auction on Friday, February 9, 2001. In the Qualified Bidders Public Notice, the Bureau will announce when software for the mock auction will be posted on the World Wide Web. Telephonic bidding will also be available during the mock auction.

12. Remote Bidding Software: Applicants are reminded that qualified bidders are eligible to bid either electronically or telephonically. To bid electronically, applicants must complete the software order form included in the Auction No. 38 Procedures Public Notice or contact the Auctions Hotline at (717) 338-2888. To ensure timely delivery of remote bidding software before the auction begins, the Commission requests receipt of software orders by 6:00 p.m. ET on Monday, January 29, 2001.

13. The FCC Remote Bidding System requires access to a 900 service telephone line. The first minute of connection time to the 900 number service is at no charge, however, $2.30 will be charged for each additional minute. The minimum hardware and software specifications required for the FCC remote bidding system are listed:

• CPU: Intel® Pentium or above

• RAM: 16 MB (more recommended if you have multiple applications open)

• Hard Disk: 33 MB available disk space

• 1.44 MB Floppy Drive or CD-ROM Drive (to install the Remote Bidding System)

• Modem: v.32bis 28.8 kbps Hayes© compatible modem (56.6 kbps recommended)

• Monitor: VGA or above

• Mouse or other pointing device

• Microsoft® Windows™ 95™ or 98™

• We recommend that you use Netscape® Communicator™ 4.73. However, you can also use Netscape Communicator 4.5, 4.51, 4.61, 4.7 or 4.72.

To download Netscape Communicator 4.73 free of charge, access the Netscape download site at http://home.netscape.com/download/

Note: The FCC Remote Bidding System has not been tested in a Macintosh, OS/2, or Windows NT™ environment. Therefore, the FCC will not support operating systems other than Microsoft Windows 95 or 98. This includes any other emulated Windows environment.

14. Long-Form Applications: All applicants should be aware that at the long-form application stage, they will be subject to the more extensive reporting requirements contained in the Commission's Part 1 ownership disclosure rule.

15. Bidder Alerts: All applicants must certify on their FCC Form 175 applications under penalty of perjury that they are legally, technically, financially and otherwise qualified to hold a license, and not in default on any payment for Commission licenses (including down payments) or delinquent on any non-tax debt owed to any Federal agency. Prospective bidders are reminded that submission of a false certification to the Commission is a serious matter that may result in severe penalties, including monetary forfeitures, license revocations, exclusion from participation in future auctions, and/or criminal prosecution.

16. Information about deceptive telemarketing investment schemes is available from the FTC at (202) 326-2222 and from the SEC at (202) 942-7040. Complaints about specific deceptive telemarketing investment schemes should be directed to the FTC, the SEC, or the National Fraud Information Center at (800) 876-7060. Consumers who have concerns about specific proposals may also call the FCC Consumer Center at (888) CALL-FCC ((888) 225-5322).

Federal Communications Commission.
Margaret Wiener,
Deputy Chief, Auctions and Industry Analysis Division, Wireless Telecommunications Bureau.

[FR Doc. 01-3044 Filed 2-5-01; 8:45 am]

BILLING CODE 6712-01-U